DEPARTMENT OF COMMERCE

National Oceanic and Atmospheric Administration

RIN 0648-XS29

Endangered Species; File No. 14394

AGENCY: National Marine Fisheries Service (NMFS), National Oceanic and Atmospheric Administration (NOAA), Commerce.

ACTION: Issuance of permit.

SUMMARY: Notice is hereby given that Douglas Peterson, Ph.D., Warnell School of Forest Resources (Fisheries Division), University of Georgia, Athens, GA 30602, has been issued a permit to take shortnose sturgeon (Acipenser brevirostrum) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Southeast Region, NMFS, 263 13th Ave South, St. Petersburg, FL 33701; phone (727)824-5312; fax (727)824-5309.

FOR FURTHER INFORMATION CONTACT: Malcolm Mohead or Kate Swails, (301)713-2289.

SUPPLEMENTARY INFORMATION: On June 24, 2009, notice was published in the Federal Register (74 FR 30054) that a request for a scientific research permit to take shortnose sturgeon had been submitted by the above-named individual. The requested permit has been issued under the authority of the Endangered Species Act of 1973, as amended (ESA; 16 U.S.C. 1531 et seq.) and the regulations governing the taking, importing, and exporting of endangered and threatened species (50 CFR parts 222-226).

The purpose of the proposed research is to assess the current status of shortnose sturgeon in the Altamaha River, Georgia, studying the distribution, abundance, and movement of adults and sub-adults of the species. The permit authorizes non-lethal sampling methods on up to 500 shortnose sturgeon annually, not exceeding a total of 1,500 over the life of the permit. Research activities include gill and trammel netting, measuring (length, weight, photos), genetic and fin-ray tissue sampling, PIT and sonic tagging, anesthesia, laparoscopy, and gastric lavage. To document spawning in the river, up to 20 eggs or larvae are to be lethally collected with artificial substrates annually. Additionally, one unintentional mortality or serious injury of a shortnose sturgeon is authorized over the life of the permit.

Issuance of this permit, as required by the ESA, was based on a finding that such permit (1) was applied for in good faith, (2) will not operate to the disadvantage of such endangered or threatened species, and (3) is consistent with the purposes and policies set forth in section 2 of the ESA.

Dated: October 8, 2009.
P. Michael Payne,
Chief, Permits, Conservation and Education Division, Office of Protected Resources, National Marine Fisheries Service.

[FR Doc. E9-24840 Filed 10-15-09; 8:45 am]

BILLING CODE 3510-22-S